FEDERAL TRADE COMMISSION

16 CFR Parts 2 and 4

Rules of Practice

AGENCY: Federal Trade Commission.

ACTION: Final rule; correction.

SUMMARY: The Federal Trade Commission published a document in the Federal Register of September 27, 2012, adopting revisions to the Commission's Rules of Practice. A footnote in the document contained an incorrect citation to the Commodity Futures Trading Commission. This notice corrects this error.

DATES: Effective November 9, 2012.

FOR FURTHER INFORMATION CONTACT: Kenny A. Wright (202-326-2907), FTC, Office of the General Counsel, 600 Pennsylvania Avenue NW., Washington, DC 20580.

SUPPLEMENTARY INFORMATION:

Correction

In the Federal Register of September 27, 2012, in FR Doc. 2012-23691, on page 59303, the second column, remove “8 CFR 1003.104” from the fourth line of footnote 74 (continued) and add “17 CFR 14.8” in its place.

Donald S. Clark,
Secretary.

[FR Doc. 2012-26170 Filed 10-24-12; 8:45 am]

BILLING CODE 6750-01-P